DEPARTMENT OF COMMERCE

National Oceanic and Atmospheric Administration

RIN 0648-XD78

Endangered and Threatened Species; Take of Anadromous Fish

AGENCY: National Marine Fisheries Service (NMFS), National Oceanic and Atmospheric Administration (NOAA), Commerce.

ACTION: Applications for three scientific research permits and three permit renewals.

SUMMARY: Notice is hereby given that NMFS has received six scientific research permit application requests relating to Pacific salmon. The proposed research is intended to increase knowledge of species listed under the Endangered Species Act (ESA) and to help guide management and conservation efforts.

DATES: Comments or requests for a public hearing on the applications must be received at the appropriate address or fax number (see ADDRESSES) no later than 5 p.m. Pacific standard time on December 13, 2007.

ADDRESSES: Written comments on the applications should be sent to the Protected Resources Division, NMFS, 1201 NE Lloyd Blvd., Suite 1100, Portland, OR 97232-1274. Comments may also be sent via fax to 503-230-5441 or by e-mail to resapps.nwr@NOAA.gov.

FOR FURTHER INFORMATION CONTACT: Garth Griffin, Portland, OR (ph.: 503-231-2005, Fax: 503-230-5441, e-mail: Garth.Griffin@noaa.gov). Permit application instructions are available from the address above.

SUPPLEMENTARY INFORMATION:

Species Covered in This Notice

The following listed species are covered in this notice:

Chinook salmon (Oncorhynchus tshawytscha): threatened lower Columbia River (LCR), threatened upper Willamette River (UWR), endangered upper Columbia River (UCR), threatened Snake River (SR) spring/summer (spr/sum), threatened SR fall, threatened Puget Sound (PS).

Chum salmon (O. keta): threatened Columbia River (CR).

Steelhead (O. mykiss): threatened LCR, threatened UWR, threatened middle Columbia River (MCR), threatened SR, endangered UCR, threatened PS.

Coho salmon (O. kisutch): threatened LCR, threatened Southern Oregon Northern California Coasts (SONCC).

Sockeye salmon (O. nerka): endangered SR.

Sturgeon: Threatened green (Acipenser medirostris).

Authority

Scientific research permits are issued in accordance with section 10(a)(1)(A) of the ESA (16 U.S.C. 1531 et seq.) and regulations governing listed fish and wildlife permits (50 CFR 222-226). NMFS issues permits based on findings that such permits: (1) are applied for in good faith; (2) if granted and exercised, would not operate to the disadvantage of the listed species that are the subject of the permit; and (3) are consistent with the purposes and policy of section 2 of the ESA. The authority to take listed species is subject to conditions set forth in the permits.

Anyone requesting a hearing on an application listed in this notice should set out the specific reasons why a hearing on that application would be appropriate (see ADDRESSES). Such hearings are held at the discretion of the Assistant Administrator for Fisheries, NMFS.

Applications Received

Permit 1119

The U.S. Fish and Wildlife Service is seeking to renew research permit 1119 for another five years. The permit currently covers five studies that, among them, would annually take adult and juvenile endangered UCR spring chinook salmon (natural and artificially propagated) and UCR steelhead (natural and artificially propagated) at various points in the Wenatchee, Entiat, Methow, Okanogan, and Yakima River watersheds and other points in eastern Washington State. The ongoing research projects are: Study 1 Peshastin Creek Salmonid Production and Life History Investigations; Study 2 Entiat Basin Spawning Ground Surveys; Study 3 Snorkel Surveys in the Wenatchee, Entiat, Methow, Okanogan, and Yakima Watersheds and Other Waterways of Eastern Washington; Study 4 Fish Salvage Activities in the Wenatchee, Entiat, Methow, Okanogan, and Yakima Watersheds and other Waterways of Eastern Washington. Study 5 would be changed from “Icicle Creek Salmonid Production and Life History Investigations” to “Capture of Bull Trout, Lamprey, and Other Species in the Wenatchee, Entiat, Methow, Okanogan, and Yakima Watersheds.” Under the proposal, listed adult and juvenile salmon and steelhead would be variously (a) captured (using nets, traps, and electrofishing equipment) and anesthetized; (b) sampled for biological information and tissue samples; (c) tagged with PIT tags or other identifiers; (d) marked and recaptured to determine trap efficiency, and (e) released.

The research has many purposes and would benefit listed salmon and steelhead in different ways. In general, the purposes of the research are to (a) gain current information on the status and productivity of various fish populations (to be used in determining the effectiveness of restoration programs); (b) collect data on the how well artificial propagation programs are helping salmon recovery efforts (looking at hatchery and wild fish interactions); (c) support the aquatic species restoration goals found in several regional plans; and (d) fulfill ESA requirements for several fish hatcheries. The fish would benefit through improved recovery actions, better designs for hatchery supplementation programs, and by being rescued outright when they are stranded by low flows in Eastern Washington streams. The FWS does not intend to kill any of the fish being captured, but a small percentage may die as an unintentional result of the research activities.

Permit 1124

The Idaho Department of Fish and Game is seeking to renew Permit 1124 for another five years. The receipt of this permit request was originally noticed in August of 2007 (72 FR 43628). Since then, the applicant has determined that they will seek approval for the majority of their research though another process under section 4(d) of the ESA. The remaining portions of the current permit would only affect juvenile and adult endangered sockeye salmon. The remaining research would cover two projects directed at monitoring natural and hatchery Chinook salmon (during which sockeye may rarely be captured), one project centered on sockeye salmon reintroduction in Idaho lakes, and a general provision for rescuing and salvaging sockeye salmon. The purposes of the research are to monitor listed salmonid health, help guide sockeye salmon recovery operations, and outrightly rescue sockeye salmon in need of help due to circumstances such as being trapped by low flows in Idaho Streams. The benefits to the salmon will come in the form of information to help guide resource managers in restoring the listed fish and, as stated, in rescuing them from peril. The fish would be captured by various methods screw trap, electrofishing, hook-and-line-angling, mid-water trawl and most would immediately be released. A few of the fish may die as a result of the research.

Permit 1406

NMFS' Northwest Fisheries Science Center is seeking to renew its 5 year permit to annually take juvenile (and precocious male) threatened SR spring/ summer chinook salmon (naturally produced) and juvenile threatened SR steelhead at various places in the Salmon River drainage in Idaho, at Little Goose Dam on the lower Snake River, and at multiple subbbasins in Northeast Oregon, Southeast Washington, and Idaho including the Clearwater and Grande Ronde Rivers. The research is a continuation of long-term, ongoing studies that have been in place for more than 15 years. The current permit covers two studies: Monitoring the Migrations of wild Snake River Spring/ summer Chinook Salmon Smolts and Monitoring and Evaluating the Genetic Characteristics of Supplemented Salmon and Steelhead. The applicant is asking that only the first of these studies be renewed. Under this study, the listed fish would be variously captured (using seines, dipnets, and electrofishing), re-captured at a smolt bypass facility, anesthetized, tagged with PIT tags or otherwise marked, tissue sampled, weighed, measured, and released.

The research has many purposes and would benefit listed salmon and steelhead in different ways. In general, the purpose of the research is to continue monitoring juvenile outmigration behavior among steelhead and spring/summer chinook salmon populations in Idaho. The research will benefit the fish by continuing to supply managers with the information they need to budget water releases at hydropower facilities in ways that will help protect migrating juveniles. The applicant does not intend to kill any of the fish being captured, but small percentage may die as an unintended result of the research.

Permit 10020

The City of Bellingham Environmental Resources Division is requesting a 5-year research permit to take PS Chinook salmon and steelhead. The purpose of the research is to assess the effectiveness of habitat restoration measures implemented as part of the Whatcom Creek long-term Restoration Plan. In June of 1999, aquatic and wetland habitats in Whatcom Creek were severely affected by a fuel leak and subsequent explosion. The information gathered by this research would benefit listed salmonids by helping resource managers evaluate the effectiveness of the habitat restoration efforts. The applicant proposes to capture fish using a smolt trap. Listed fish would be captured, identified, measured, and released. The applicant does not intend to kill any listed fish species, but a small number may die as an unintended result of the activities.

Permit 10042

The U.S. Geological Survey is requesting a 5-year research permit to conduct studies of interactions between American shad (Alosa sappidissima) and salmonid restoration efforts in the lower Columbia River. The applicant proposes to capture a few adults and juveniles of all species listed at the beginning of this notice except for those found in the Puget Sound, Washington. The purpose of the study is to determine how shad are benefitted by or detract from salmonid restoration programs in the Columbia River basin. The listed fish will benefit from these efforts as managers learn how the non-native shad affect both the local salmonids and the programs designed to restore them. The applicant proposes to capture the fish using a variety of methods: gillnetting, electrofishing, angling, seines, cast nets, etc. All listed fish captured during the research would be immediately returned to the water at the point of capture. The applicant does not propose to kill any listed fish, but a small number may die as an unintended result of the activities.

Permit 10077

The U.S. Fish and Wildlife Service's Western Washington Fish and Wildlife Office is requesting a 1-year research permit to take PS Chinook salmon and steelhead. The purposes of the study are to (1) provide the City of Seattle, the U.S. Army Corps of Engineers (Seattle District), and the Washington Department of Transportation with information on juvenile Chinook salmon movement patterns and habitat use in Lake Washington and the Lake Washington Ship Canal; and (2) collect habitat use information on two key predators of juvenile Chinook salmon: smallmouth bass and northern pikeminnow. The information gathered by this research would benefit listed salmonids by helping resource managers (1) determine the relationship between habitat use and shoreline development, (2) guide the city's efforts to improve habitat conditions, (3) predict the effects of habitat modifications, (4) help Lake Washington municipalities with their shoreline management programs, and (5) determine how fish pass through the Ballard Locks and identify ways to improve fish passage. For the habitat use study, the applicant proposes to obtain juvenile Chinook salmon from a screw trap operated by the Washington Department of Fish and Wildlife. An acoustic tag would be surgically implanted in the captured juvenile Chinook salmon and the fish would be released into Lake Washington. In the predator sampling study, the applicant would capture fish by using hook and line fishing, beach seines, and gill nets. Listed fish captured during the predator sampling study would be released immediately. The applicant does not intend to kill any listed fish, but a small number may die as an unintended result of the activities.

This notice is provided pursuant to section 10(c) of the ESA. NMFS will evaluate the application, associated documents, and comments submitted to determine whether the application meets the requirements of section 10(a) of the ESA and Federal regulations. The final permit decisions will not be made until after the end of the 30-day comment period. NMFS will publish notice of its final action in the Federal Register.

Dated: November 6, 2007.
Angela Somma,
Chief, Endangered Species Division, Office of Protected Resources, National Marine Fisheries Service.

[FR Doc. E7-22108 Filed 11-9-07; 8:45 am]

BILLING CODE 3510-22-S